ENVIRONMENTAL PROTECTION AGENCY

[FRL-7131-2]

Agency Information Collection Activities: Continuing Collection; Comment Request; RCRA Expanded Public Participation

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): RCRA Expanded Public Participation, EPA ICR Number 1688.04, OMB Control Number 2050-0149 (expiration date May 31, 2002). Before submitting the ICR to OMB for review and approval, EPA is soliciting comments on specific aspects of the proposed information collection as described below.

DATES: Comments must be submitted on or before March 25, 2002.

ADDRESSES: Commenters must send an original and two copies of their comments referencing Docket Number F-2001-R3IP-FFFFF to RCRA Docket Information Center, Office of Solid Waste (5305G) United States Environmental Protection Agency, Ariel Rios Building, 1200 Pennsylvania Avenue, NW., Washington, DC, 20460. Hand deliveries of comments should be made to the Arlington, VA address listed below. Comments may also be submitted electronically by sending electronic mail through the Internet to: rcra-docket@epamail.gov. Comments in eletronic format should also be identified by the Docket Number F-2001-R3IP-FFFFF. All electronic comments must be submitted as an ASCII file avoiding the use of special characters and any form of encryption. The official record for this action will be kept in paper form. Accordingly, EPA will transfer all comments received electronically into paper form and place them in the official record, which will also include all comments submitted directly in writing. The official record is the paper record maintained in the RCRA Information Center (the RIC address is listed above in this section). Commenters should not submit any confidential business information (CBI) electronically. An original and two copies of CBI must be submitted under separate cove to: RCRA CBI Document Control Officer, Office of Solid Waste (5303W), United States Environmental Protection Agency, Ariel Rios Building, 1200 Pennsylvania Avenue, NW., Mailcode 5305W, Washington, DC, 20460. Public comments and supporting materials are available for viewing in the RCRA Information Center (RIC), located at Crystal Gateway, First Floor, 1235 Jefferson Davis Highway, Arlington, VA. The RIC is open from 9 a.m. to 4 p.m. Monday through Friday, excluding federal holidays. To review docket materials, it is recommended that the public make an appointment by calling (703) 603-9230. The public may copy a maximum of 100 pages from any regulatory docket at no charge. Additional copies are $0.15/page. This notice and the supporting documents that detail the ICR renewal are also available.

FOR FURTHER INFORMATION CONTACT: For general information, contact the RCRA Hotline at 800-424-9346 or TDD 800-553-7672 (hearing impaired). In the Washington, DC metropolitan area, call (703) 412-9810 or TDD (703) 412-3323. For more detailed information on specific aspects of this rulemaking, contact Toshia King, Office of Solid Waste (5303W), U.S. Environmental Protection Agency, 1200 Pennsylvania Avenue, NW., Washington, DC, 20460, (703) 308-7033, King.Toshia@epamail.epa.gov.

The docket index and some supporting documents in the docket for this ICR are available in electronic format on the Internet at http://www.epa.gov/epaoswer/hazwaste/permit/pub~icr.htm>.

We will keep the official record for this action in paper form. The official record is the paper record maintained at the RCRA Information Center, also referred to as the Docket, at the address provided in the ADDRESSES section at the beginning of this document.

SUPPLEMENTARY INFORMATION: Affected entities: Entities potentially affected by this action are owners and operators of facilities that treat, store, or dispose of hazardous waste to comply with standards, under Section 3004 of RCRA, that are necessary to protect human health and the environment.

Title: RCRA Expanded Public Participation, EPA ICR Number 1688.04. OMB control Number 2050-0149, expiration date: 05/31/2002.

Abstract: Congress gave EPA broad authority to provide for public participation in the RCRA permitting process. EPA promulgated requirements for providing additional opportunities for the public to be involved in the RCRA permitting process at 40 CFR part 124, 124.31 through 124.33 and 40 CFR part 270, 270.62 and 270.66. The part 124 requirements apply to all types of hazardous waste treatment, storage, and disposal facilities, unless exempted under a specific section; the part 270 requirements apply only to hazardous waste combustors planning trial burns.

The public participation regulations at parts 124 and 270 were promulgated by EPA under the authority of subtitle C in RCRA to provide earlier and better public participation in the hazardous waste facility permitting process. In summary the regulations require a permit applicant to provide notice of and hold an informal meeting with the public before submitting a part B application, and to submit a summary of the meeting to the agency (§ 124.31). This meeting is the earliest formal step in the RCRA permitting process. The agency is required to issue a public notice when it receives an application (§ 124.32). The notice informs the recipient that the facility has submitted a permit application for agency review. Certain facilities (as decided by the agency director on a case-by-case basis) are required to set up and maintain an information repository (§ 124.33). Lastly, the agency is required to issue a public notice of an upcoming trial burn at a permitted hazardous waste combustion facility (§§ 270.62(b)((6) and 270.66(d)(3)), or at a hazardous waste combustion facility operating under interim status (§§ 270.62(d) and 270.66(g)).

This information collection targets the reporting frequency and requirements of the permit and assures public involvement regulations are met by owners or operators. The reporting frequency is essential to assure that any changes in the trial burn plans or in the anticipated permit application contents are made known to EPA and to the public. The requirements in this rule are also consistent with EPA's current policies on public participation. In December of 2000, EPA requested public comment on its Draft 2000 Public Involvement Policy (65 FR 82335; December 28, 2000). The draft policy updates an earlier policy issued in 1981. Among other things, the draft policy calls for a strengthened commitment to meaningful public involvement, greater attention to the specific concerns and interest of affected people and entities, and use of a wider variety of public involvement techniques. In this regard, the RCRA Expanded Public Participation Rule can serve as an example to other EPA programs of how to achieve many of the goals of the policy. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimated respondent burden hours for the information collection requirements associated with the pre-application meeting and the information repository requirements. The estimated number of likely respondents subject to pubic participation activities required under this collection of information is 33. The total annual burden to respondents, as estimated for all public participation reporting and recordkeeping activities under this collection of information is 3,005 hours. The total estimated average annual burden cost to respondents required to perform public participation activities under this information collection request is $162,834 ($159,425 in labor cost, $546 in total capital cost, and $2,863 in O&M cost). The estimates for O&M cost include preparation of multilingual notices and the purchase of a file cabinet to retain copies and other required documentation. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 15, 2002.
Matthew Hale,
Deputy Director, Office of Solid Waste.

[FR Doc. 02-1498 Filed 1-18-02; 8:45 am]

BILLING CODE 6560-50-M